POSTAL SERVICE

39 CFR Part 20

International Mail Manual; Incorporation by Reference

AGENCY: Postal Service.

ACTION: Final rule.

SUMMARY: The Postal Service announces the issuance of the Mailing Standards of the United States Postal Service, International Mail Manual (IMM®), issued April 7, 2025, and its incorporation by reference in the Code of Federal Regulations.

DATES: This rule is effective May 23, 2025. The incorporation by reference of certain material listed in this rule is approved by the Director of the Federal Register as of May 23, 2025.

FOR FURTHER INFORMATION CONTACT: Dale Kennedy, (202) 268-6592.

SUPPLEMENTARY INFORMATION: The International Mail Manual (IMM) provides our standards for all international mailing services and references for the applicable prices. It was issued on April 7, 2025, and was updated with Postal Bulletin revisions through March 6, 2025. It replaces all previous editions.

The IMM continues to enable the Postal Service to fulfill its long-standing mission of providing affordable, universal mail service. It continues to: (1) increase the user's ability to find information; (2) increase the user's confidence that he or she has found the information they need; and (3) reduce the need to consult multiple sources to locate necessary information. The provisions throughout this issue support the standards and mail preparation changes implemented since the version of January 21, 2024. The International Mail Manual is available to the public on the Postal Explorer® internet site at https://pe.usps.com.

List of Subjects in 39 CFR part 20

Administrative practice and procedure, Foreign relations, Incorporation by reference.

In view of the considerations discussed above, the Postal Service hereby amends 39 CFR part 20 as follows:

PART 20—INTERNATIONAL POSTAL SERVICE

1. The authority citation for part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Amend § 20.1 by revising paragraph (b) as follows:

§ 20.1 Incorporation by reference; Mailing Standards of the United States Postal Service, International Mail Manual.

* * * * *

(b) The Director of the Federal Register approved the IMM, issued April 7, 2025, for incorporation by reference as of May 23, 2025.

3. Revise § 20.2 to read as follows:

§ 20.2 Effective date of the International Mail Manual.

The provisions of the International Mail Manual, issued April 7, 2025, (incorporated by reference, see § 20.1) are applicable with respect to the international mail services of the Postal Service.

4. Amend § 20.4 by adding a new entry at the end of table 1 to § 20.4 to read as follows:

§ 20.4 Amendments to the International Mail Manual.

* * * * *

Table 1 to § 20.4—International Mail Manual
International Mail Manual | Date of issuance
* * * * *
IMM | April 7, 2025.

Colleen Hibbert-Kapler,
Attorney, Ethics and Legal Compliance.

[FR Doc. 2025-09353 Filed 5-22-25; 8:45 am]

BILLING CODE P